NATIONAL INSTITUTE FOR LITERACY

Proposed Agency Information Collection Activities; Comment Request

SUMMARY: In compliance with the Paperwork Reduction Act (44 U.S.C. 350l et seq., this notice announces an Information Collection Request (ICR) by the NIFL. The ICR describes the nature of the information collection and its expected cost and burden.

DATES: Comments must be submitted on or before March 5, 2001.

ADDRESSES: Submit written comments to: National Institute for Literacy, 1775 I Street, NW, Suite 730, Washington, DC 20006, Attention: Jennifer Cromley. Copies of the complete ICR and the accompanying regulations may be obtained from the above address or by contacting Jennifer Cromley at (202) 233-2053, or on-line at http://www.nifl.gov/nifl/news_events.html. Comments also may be submitted electronically by sending electronic mail (e-mail) to: jcromley@nifl.gov. All written comments will be available for public inspection from 8:00 a.m. to 4:30 p.m., Monday through Friday, excluding legal holidays.

SUPPLEMENTARY INFORMATION: Title: Application for Literacy Leader Fellowship Program.

Abstract: The National Institute for Literacy (NIFL) was created by the National Literacy Act of 1991 and amended by the Workforce Investment Act of 1998 and authorized the NIFL to award fellowships to outstanding individuals pursuing careers in adult education or literacy in the areas of instruction, management, research, or innovation. Evaluations to determine successful applications will be made by a panel of literacy experts and information specialists using the published criteria. The NIFL will use this information to issue a minimum of 2-3 fellowships for a period of up to one year.

Burden Statement: The burden for this collection of information is estimated at 52 hours per response for the first year. This estimate includes the time needed to review instructions, complete the form, and review the collection of information. No more than 2-3 applicants will be awarded a fellowship grant. Each awardee will have an annual update of the application requiring an average of 52 hours per response for each continuation year.

Respondents: Public and private nonprofit organizations.

Estimated Number of Respondents: 50.

Estimated Number of Responses Per Respondent: 1.

Estimated Total Annual Burden on Respondents: 52 hours.

Frequency of Collection: One time. Send comments regarding the burden estimate or any other aspect of the information collection, including suggestions for reducing the burden to Jennifer Cromley at the above address.

Request for Comments: NIFL solicits comments to: (i) Evaluate whether the proposed collection of information is necessary for the proper performance of the functions of the agency, including whether the information will have practical utility. (ii) Evaluate the accuracy of the agency's estimates of the burden of the proposed collection of information. (iii) Enhance the quality, utility, and clarity of the information to be collected. (iv) Minimize the burden of the collection of information on those who are to respond, including through the use of appropriate automated or electronic collection technologies of other forms of information technology, e.g., permitting electronic submission of responses.

Dated: January 26, 2001.
Andrew J. Hartman,
Director, NIFL.

[FR Doc. 01-2736 Filed 1-31-01; 8:45 am]

BILLING CODE 6055-01-P